DEPARTMENT OF ENERGY

Federal Energy Regulatory Commission

[Project No. 10615-058]

Tower Kleber Limited Partnership; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New Major License.

b. Project No.: 10615-058.

c. Date Filed: April 28, 2022.

d. Applicant: Tower Kleber Limited Partnership (Tower Kleber).

e. Name of Project: Tower and Kleber Hydroelectric Project (project).

f. Location: On the Black River in Cheboygan County, Michigan.

g. Filed Pursuant to: Federal Power Act, 16 U.S.C. 791 (a)-825(r).

h. Applicant Contact: Ms. Tiffany Heon, Tower Kleber Limited Partnership, A-121 Strachan Street, Port Hope, Ontario, Canada L1A 1J1; telephone at (647) 220-4476; email at tiffanyheon@hotmail.com.

i. FERC Contact: Arash Barsari, Project Coordinator, Great Lakes Branch, Division of Hydropower Licensing; telephone at (202) 502-6207; email at Arash.JalaliBarsari@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Tower and Kleber Hydroelectric Project (P-10615-058).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project consists of two hydropower developments, the Tower Development and the Kleber Development.

The Tower Development consists of an approximately 738-foot-long, 22.75-foot-high concrete gravity dam that includes: (1) a 2-foot-long west abutment section; (2) a 362.6-foot-long non-overflow earthen embankment with a concrete core wall; (3) a 198.3-foot-long non-overflow concrete embankment section; (4) a 110-foot-long spillway section with a crest elevation of 722.2 feet National Geodetic Vertical Dam of 1929 (NGVD 29); (5) a 35.3-foot-long intake structure with four 6.67-foot-wide, 10.83-foot-high wooden sluice gates each equipped with a 7.73-foot-wide, 15.5-foot-high trashrack with 1.25-inch clear bar spacing; and (6) a 30-foot-long east earthen abutment section. The Tower Development dam creates an impoundment with a surface area of 83 acres at a normal maximum surface elevation of 722.1 feet NGVD 29.

From the impoundment, water flows through the intake structure to two 280-kilowatt (kW) Francis turbine-generators located in a 32.5-foot-long, 35.3-foot-wide powerhouse. Water is discharged from the turbines to a tailrace. Electricity generated at the Tower Development is transmitted to the electric grid via an 87-foot-long, 2.4-kilovolt (kV) underground generator lead line, a 2.4/12.5-kV step-up transformer, and a 330-foot-long, 12.5-kV underground transmission line.

Project recreation facilities at the Tower Development include: (1) a boat access site and parking area approximately 1,300 feet upstream of the dam on the western shore of the impoundment; (2) a canoe take-out site at the earthen embankment; (3) an approximately 270-foot-long canoe portage route; (4) a canoe put-in site approximately 75 feet downstream of the dam; (5) a handicapped-accessible fishing site and parking area approximately 700 feet upstream of the dam on the western shore of the impoundment; and (6) an approximately 370-foot-long tailrace access footpath from the parking area of the fishing site to the canoe portage route.

The Kleber Development consists of an approximately 535-foot-long, 45.4-foot-high dam that includes: (1) an approximately 320-foot-long west earthen embankment; (2) a 44.5-foot-long reinforced concrete section that includes: (a) a 12-foot-long ogee spillway with a crest elevation of 689.1 feet NGVD 29 and equipped with an approximately 12-foot-wide, 13-foot-high Tainter gate that has a crest elevation of 702.1 feet NGVD 29; and (b) two 11-foot-wide, 11-foot-high intake gates each equipped with a trashrack with 2.56-inch clear bar spacing; and (3) an approximately 170-foot-long east earthen embankment. The Kleber Development dam creates an impoundment with a surface area of 267 acres at a normal maximum surface elevation of 701.1 feet NGVD 29.

From the impoundment, water flows through the Tainter gate to a 154-foot-long concrete spillway chute and a 30-foot-long, 30-foot-wide stilling basin that provides flow to the Black River downstream of the dam. From the impoundment, water also flows through the two intake gates to a 139.7-foot-long, 7-foot-diameter penstock and a 139.3-foot-long, 7-foot-diameter penstock that provide flow to two 600-kW Kaplan turbine-generators in a 40-foot-long, 42-foot-wide powerhouse. Water is discharged from the turbines to a tailrace. The Kleber Development also includes an emergency spillway with a 200-foot-long concrete weir that has a crest elevation of approximately 702.0 feet NGVD 29. Electricity generated at the Kleber Development is transmitted to the electric grid via a 168-foot-long, 2.4-kV generator lead line and a 2.4/12.5-kV step-up transformer.

Project recreation facilities at the Kleber Development include: (1) a boat access site and parking area approximately 4,000 feet upstream of the dam on the eastern shore of the impoundment; (2) a canoe take-out site approximately 70 feet upstream of the dam on the east shoreline of the impoundment; (3) an approximately 580-foot-long canoe portage trail; (4) a tailrace access road and canoe put-in site on the southern shore of the Black River approximately 400 feet downstream of the dam; and (5) a tailrace access site and parking area on the northern shore of the Black River approximately 180 feet downstream of the dam.

The average annual energy production of the project from 2017 through 2021 was 7,742 MWh.

The current license requires Tower Kleber to: (1) operate the project in a run-of-river mode, such that project outflow approximates inflow; (2) maintain an impoundment elevation of 722.1 NGVD 29 for the Tower Development and 701.1 feet NGVD 29 for the Kleber Development, and limit impoundment fluctuations to no more than +/−0.25 foot; (3) limit impoundment drawdowns to no more than 1 foot from November 1 through March 31; (4) protect and enhance lake sturgeon and lake sturgeon habitat in the Black River Basin in accordance with a March 1, 1994 settlement agreement between the licensee and Michigan Department of Natural Resources (DNR); (5) operate and maintain all project recreation facilities; (6) protect and monitor water quality and bald eagles; and (7) monitor invasive species. In 2009, Tower Kleber constructed the Black River Streamside Rearing Facility (Rearing Facility) and pumping station north of the Kleber Development dam to comply with the license requirement to protect and enhance lake sturgeon in the Black River Basin. The Rearing Facility and pumping station are owned and maintained by Tower Kleber, and managed by the Michigan DNR and Michigan State University (MSU) to rear lake sturgeon that are stocked primarily at Black Lake, Mullett Lake, and Burt Lake.

Tower Kleber proposes to revise the project boundary to include the following existing project facilities: (1) the emergency spillway at the Kleber Development; (2) the tailrace access road and canoe portage trail at the Kleber Development; (3) the boat access site and parking area approximately 4,000 feet upstream of the Kleber Development dam; (4) the entire transmission line of the Tower Development; and (5) the entire tailrace access footpath at the Tower Development. Tower Kleber also proposes to revise the project boundary to include approximately 0.3 acre of land associated with a camping and fishing access approximately 6,000 feet upstream of the Kleber Development dam that is owned by the State of Michigan. Tower Kleber proposes to remove the following land parcels from the current project boundary: (1) an approximately 8-acre area adjacent to the east and west shorelines of the Black River from approximately 700 feet upstream to 900 feet downstream of the Tower Development dam; (2) an approximately 10-acre area northeast of the east earthen embankment of the Kleber Development; and (3) an approximately 0.2-acre area south of the emergency spillway at the Kleber Development.

Tower Kleber proposes to: (1) continue to operate the project in a run-of-river mode; (2) continue to maintain an impoundment elevation of 722.1 NGVD 29 for the Tower Development and 701.1 feet NGVD 29 for the Kleber Development, and limit impoundment fluctuations to no more than +/−0.25 foot; (3) continue to limit impoundment drawdowns to no more than 1 foot from November 1 through March 31; (4) maintain the Rearing Facility and pumping station as project facilities so that Michigan DNR and MSU can continue to rear lake sturgeon at the Rearing Facility (i.e., Tower Kleber is not proposing to rear lake sturgeon, but is proposing to maintain the facilities needed to rear lake sturgeon); (5) monitor project flows; (6) monitor invasive species five years after any license issued and every ten years thereafter; (7) install and maintain invasive species signage for zebra mussels at the boat launch areas to encourage boaters, canoeists, and kayakers to clean their boats and not transport water or vegetation upstream; (8) monitor dissolved oxygen, sediment, and mercury in the impoundments; and (9) continue to operate and maintain project recreation facilities that are on land currently owned by Tower Kleber.

Tower Kleber is not proposing to operate and maintain the following existing project recreation facilities that are required by the current license: (1) the boat access site and associated parking area approximately 4,000 feet upstream of the Kleber Development dam that is located on land owned by the State of Michigan; and (2) the boat access site and parking area approximately 1,300 feet upstream of the Tower Development dam that is located on land owned by the Forest Township.

m. A copy of the application can be viewed on the Commission's website at http://www.ferc.gov using the “eLibrary” link. Enter the docket number excluding the last three digits in the docket number field to access the document (i.e., P-10615). For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification.

p. Procedural schedule: The application will be processed according to the following schedule. Revisions to the schedule will be made as appropriate.

Milestone | Target date
Filing of Comments, Recommendations, Terms and Conditions, and Prescriptions | July 2024.
Filing of Reply Comments | August 2024.

q. Final amendments to the application must be filed with the Commission no later than 30 days from the issuance date of this notice.

Dated: May 10, 2024.
Debbie-Anne A. Reese,
Acting Secretary.

[FR Doc. 2024-10797 Filed 5-16-24; 8:45 am]

BILLING CODE 6717-01-P